DEPARTMENT OF EDUCATION

Office of Special Education and Rehabilitative Services; Overview Information; Special Demonstration Programs—Model Transitional Rehabilitation Services for Youth and Young Adults With Disabilities; Notice Inviting Applications for New Awards for Fiscal Year (FY) 2004

Catalog of Federal Domestic Assistance (CFDA) Number: 84.235S.

Dates:

Applications Available: July 19, 2004.

Deadline for Transmittal of Applications: August 19, 2004.

Eligible Applicants: Public or nonprofit agencies or organizations, including institutions of higher education, for-profit organizations, State vocational rehabilitation (VR) agencies, community rehabilitation programs, and Indian tribes or tribal organizations.

Estimated Available Funds: $2,000,000.

Estimated Range of Awards: $200,000-$300,000.

Estimated Average Size of Awards: $250,000.

Estimated Number of Awards: 8.

Note: The Department is not bound by any estimates in this notice.

Project Period: Up to 60 months.

Full Text of Announcement:

I. Funding Opportunity Description

Purpose of Program: This program provides grants to eligible entities to support activities that increase the provision, extent, availability, scope, and quality of rehabilitation services.

Priority: In accordance with 34 CFR 75.105(b)(2)(ii), this priority is from the regulations for this program (34 CFR 373.6(a)(1), (a)(2), (b)(2), and (b)(10)).

Absolute Priority: For FY 2004 this priority is an absolute priority. Under 34 CFR 75.105(c)(3) we consider only applications that meet this priority.

This priority is:

Special Demonstration Programs—Model Demonstrations to Increase Meaningful Community Integration, Postsecondary Education, and Employment Outcomes for Transition-Age Youth and Young Adults With Disabilities Through Research-Based Mentoring Methods

Special demonstration projects under this priority must focus on research-based mentoring methods that provide appropriate supports for transition-age youth and young adults with disabilities. The projects must demonstrate research-based mentoring models that are aimed at increasing meaningful community integration, postsecondary education, and employment outcomes. To meet the requirements, an applicant must—

(1) Describe the research-based mentoring models that will be demonstrated through its project;

(2) Describe the outreach methods used to select project participants and the criteria by which mentors will be recruited;

(3) Describe how the proposed project will increase self-advocacy, high-level personal and career expectations, and decisionmaking. At a minimum, the project must describe how mentors will help consumers develop and improve self-confidence, community integration skills, work skills, self-determination skills, advocacy, and decisionmaking;

(4) Describe clear program objectives, goals, and outcomes, including expected outcomes in the areas of community integration, postsecondary education, and employment. Descriptions must include targets, such as the estimated number of individuals to be served and the number of those who are expected to become enrolled in higher education, and well-defined operational guidelines;

(5) Describe, in specific detail, the data that will be collected in order to measure the project's success in achieving its goals and meeting its targets;

(6) Describe the design and implementation of an internal evaluation plan for which—

(a) The methods of evaluation are thorough, feasible, and appropriate to the objectives, outcomes, and goals of the project;

(b) The methods of evaluation include the use of objective performance measures that are clearly related to the intended outcomes of the project and will produce quantitative and qualitative data to the extent possible; and

(c) The methods of evaluation provide performance feedback and permit periodic assessment of progress toward achieving intended outcomes; and

(7) Include a plan to widely disseminate the results of the project, including any mentoring methods that demonstrate positive results, so the mentoring model may be adapted, replicated, or integrated into State VR agencies and disability organizations.

Definitions:

For the purposes of this competition, the following definitions apply:

Employment outcome means, with respect to an individual, entering or retaining full-time or, if appropriate, part-time competitive employment in the integrated labor market, supported employment, or any other type of employment in an integrated setting, including self-employment, telecommuting, or business ownership, that is consistent with an individual's strengths, resources, priorities, concerns, abilities, capabilities, interests, and informed choice. (See 34 CFR 361.5(b))

Institution of higher education means an educational institution in any State that—

(1) Admits as regular students only persons having a certificate of graduation from a school providing secondary education or the recognized equivalent of such a certificate;

(2) Is legally authorized within such a State to provide a program of education beyond secondary education;

(3) Provides an educational program for which the institution awards a bachelor's degree or provides not less than a two-year program that is acceptable for full credit toward such a degree;

(4) Is a public or other nonprofit institution; and

(5) Is accredited by a nationally recognized accrediting agency or association or, if not so accredited, is an institution that has been granted preaccreditation status by such an agency or association that has been recognized by the Secretary for the granting of preaccreditation status, and the Secretary has determined that there is satisfactory assurance that the institution will meet the accreditation standards of such an agency or association within a reasonable time.

The term “institution of higher education” also includes—

(6) Any school that provides not less than a one-year program of training to prepare students for gainful employment in a recognized occupation and that meets the provisions of paragraphs (1), (2), (4), and (5) of this definition; and

(7) A public or nonprofit private educational institution in any State that, in lieu of the requirement in paragraph (1) of this definition, admits as regular students persons who are beyond the age of compulsory school attendance in the State in which the institution is located. (See 20 U.S.C. 1001)

Mentor, as generally defined, means a more successful, experienced person who can impart advice, support, insight, and knowledge on employment and other life activities to a less experienced person.

Mentoring, as generally defined, means the act of a mentor providing guidance in the form of teaching and support, encouraging and motivating, assisting with career and professional development, assisting with goal achievement, and linking the less experienced person to others who can help enhance growth and development.

Youth and young adults with disabilities means individuals with disabilities who are between the ages of 16 and 26 inclusive when entering the program. (See 34 CFR 373.4)

Program Authority: 29 U.S.C. 773(b).

Applicable Regulations: (a) The Education Department General Administrative Regulations (EDGAR) in 34 CFR parts 74, 75, 77, 79, 80, 81, 82, 84, 85, 86, 97, and 99. (b) The regulations for this program in 34 CFR part 373.

Note: The regulations in 34 CFR part 79 apply to all applicants except federally recognized Indian tribes.

Note: The regulations in 34 CFR part 86 apply to institutions of higher education only.

II. Award Information

Type of Award: Discretionary grants.

Estimated Available Funds: $2,000,000.

Estimated Range of Awards: $200,000-$300,000.

Estimated Average Size of Awards: $250,000.

Estimated Number of Awards: 8.

Note: The Department is not bound by any estimates in this notice.

Project Period: Up to 60 months.

III. Eligibility Information

1. Eligible Applicants: Public or nonprofit agencies or organizations, including institutions of higher education, for-profit organizations, State VR agencies, community rehabilitation programs, and Indian tribes or tribal organizations.

2. Cost Sharing or Matching: This program does not involve cost sharing or matching.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.235S.

Individuals with disabilities may obtain a copy of the application package in an alternative format (e.g., Braille, large print, audiotape, or computer diskette) by contacting the Grants and Contracts Services Team, U.S. Department of Education, 400 Maryland Avenue, SW., room 5075, Potomac Center Plaza, Washington, DC 20202-2550. Telephone: (202) 245-7562.

2. Content and Form of Application Submissions: Requirements concerning the content of an application, together with the forms you must submit, are in the application package for this competition. Page Limit: The application narrative (Part III of the application) is where you, the applicant, address the selection criteria that reviewers use to evaluate your application. We suggest that you limit Part III to approximately 35 double-spaced pages.

3. Submission Dates and Times: Applications Available: July 19, 2004. Deadline for Transmittal of Applications: August 19, 2004.

The dates and times for the transmittal of applications by mail or by hand (including a courier service or commercial carrier) are in the application package for this competition. The application package also specifies the hours of operation of the e-Application Web site.

We do not consider an application that does not comply with the deadline requirements.

4. Intergovernmental Review: This program is subject to Executive Order 12372 and the regulations in 34 CFR part 79. However, in order to ensure that these FY 2004 grants are made before September 30, 2004, the 60-day intergovernmental review period has been waived.

5. Funding Restrictions: We specify limitations on indirect costs in 34 CFR 373.22. We reference additional regulations outlining funding restrictions in the Applicable Regulations section of this notice.

6. Other Submission Requirements: Instructions and requirements for the transmittal of applications by mail or by hand (including a courier service or commercial carrier) are in the application package for this competition.

Application Procedures

Note: Some of the procedures in these instructions for transmitting applications differ from those in EDGAR (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. Special Demonstration Programs—Model Transitional Rehabilitation Services for Youth and Young Adults With Disabilities—CFDA Number 84.235S is one of the programs included in the pilot project. If you are an applicant under Special Demonstration Programs—Model Transitional Rehabilitation Services for Youth and Young Adults With Disabilities, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 245-6272.

• We may request that you give us original signatures on other forms at a later date.

Application Deadline Date Extension in Case of System Unavailability: If you elect to participate in the e-Application pilot for Special Demonstration Programs—Model Transitional Rehabilitation Services for Youth and Young Adults With Disabilities and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for Special Demonstration Programs—Model Transitional Rehabilitation Services for Youth and Young Adults With Disabilities at: http://e-grants.ed.gov.

V. Application Review Information

Selection Criteria: The selection criteria for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Government Performance and Results Act (GPRA) of 1993 directs Federal departments and agencies to improve the effectiveness of their programs by engaging in strategic planning, setting outcome-related goals for programs, and measuring program results against those goals. Program officials must develop performance measures for all of their grant programs to assess their performance and effectiveness. The Rehabilitation Services Administration has established the following indicators to assess the effectiveness of mentoring models developed under this Special Demonstration Program:

• The percentage of youth and young adults with disabilities served by these projects who become enrolled in an institution of higher education.

• The percentage of youth and young adults with disabilities served by these projects who achieve an employment outcome.

Each grantee must report on these indicators in its annual performance report. All grantees must submit annual performance reports documenting their performance and evaluation findings, as required by 34 CFR 75.590 and section 306 of the Rehabilitation Act of 1973, as amended.

VII. Agency Contact

FOR FURTHER INFORMATION CONTACT: Pedro Romero, U.S. Department of Education, 400 Maryland Avenue, SW., room 5029, Potomac Center Plaza, Washington, DC 20202-2800. Telephone: (202) 245-7645 or by e-mail: pedro.romero@ed.gov.

If you use a telecommunications device for the deaf, you may call the TDD number at (800) 437-0833.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 9, 2004.
Troy R. Justesen,
Acting Deputy Assistant Secretary for Special Education and Rehabilitative Services.

[FR Doc. 04-16009 Filed 7-14-04; 8:45 am]

BILLING CODE 4000-01-P